FEDERAL COMMUNICATIONS COMMISSION

47 CFR Part 54

Universal Service Support Mechanisms

AGENCY: Federal Communications Commission.

ACTION: Final rule; announcement of effective date.

SUMMARY: The Federal Communications Commission has published a number of requirements related to the universal service support mechanisms. This document announces the approval of the Office of Management and Budget (OMB) for information collection requirements contained in the sections outlined in the DATES section.

DATES: Effective November 17, 2010, the following regulations have been approved by OMB:

54.5—71 FR 38796, July 10, 2006.

54.409(d)—69 FR 34600, June 22, 2004.

54.410—69 FR 34600, June 22, 2004.

54.416—69 FR 34601, June 22, 2004.

54.513(c)—69 FR 6191, Feb. 10, 2004.

54.514(b)—68 FR 36942, June 20, 2003.

54.609(d)(2)—68 FR 74502, Dec. 24, 2003.

54.609(e)—70 FR 6373, Feb. 7, 2005.

54.621—68 FR 74503, Dec. 24, 2003.

54.703(c)—63 FR 70573, Dec. 21, 1998.

54.708—71 FR 38797, July 10, 2006.

54.712—71 FR 38797, July 10, 2006.

FOR FURTHER INFORMATION CONTACT: Nicholas Degani, Telecommunications Access Policy Division, Wireline Competition Bureau, at (202) 418-7400.

SUPPLEMENTARY INFORMATION: On April 19, 2000, OMB approved the information collection requirements contained in § 54.703(c) of title 47 of the United States Code as a revision to OMB Control Number 3060-0876. OMB had previously temporarily approved this information collection several times.

On March 16, 2004, OMB approved the information collection requirements contained in §§ 54.609(d)(2) and 54.621 of title 47 of the United States Code as a revision to OMB Control Number 3060-0804.

On July 13, 2004, OMB approved the information collection requirements contained in § 54.513(c) of title 47 of the United States Code as a part of OMB Control Number 3060-1062.

On November 12, 2004, OMB approved the information collection requirements contained in § 54.514(b) of title 47 of the United States Code as a revision to OMB Control Number 3060-0806.

On May 12, 2005, OMB approved the information collection requirements contained in §§ 54.409(d), 54.410, and 54.416 of title 47 of the United States Code as a revision to OMB Control Number 3060-0819.

On June 28, 2005, OMB approved the information collection requirements contained in §§ 54.609(e) of title 47 of the United States Code as a revision to OMB Control Number 3060-0804.

On March 19, 2007, OMB approved the information collection requirements contained in §§ 54.5, 54.708, and 54.712 of title 47 of the United States Code as a revision to OMB Control Number 3060-0855. OMB had previously temporarily approved these information collections on October 20, 2006.

These information collection requirements required OMB approval in order to become effective. The Commission publishes this document as an announcement of those approvals. If you have any comments on the burden estimates listed below, or how the Commission can improve the collections and reduce any burdens caused thereby, please contact Thomas Butler, Federal Communications Commission, Room 5-C457, 445 12th Street, SW., Washington, DC 20554. Please include the OMB Control Numbers, 3060-0804, 3060-0806, 3060-0819, 3060-0855, 3060-0876, 3060-1062, in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received OMB approval for the information collection requirements described above. The OMB Control Numbers are 3060-0804, 3060-0806, 3060-0819, 3060-0855, 3060-0876, and 3060-1062. The total annual reporting burden for respondents for these collections of information, including the time for gathering and maintaining the collection of information, has been most recently approved to be:

For 3060-0804: 59,464 responses, for a total annual burden of 67,468 hours, and no annual costs.

For 3060-0806: 221,000 responses, for a total annual burden of 525,003 hours, and no annual costs.

For 3060-0819: 227,055 responses, for a total annual burden of 61,788 hours, and no annual costs.

For 3060-0855: 36,068 responses, for a total annual burden of 273,129 hours, and no annual costs.

For 3060-0876: 22 responses, for a total annual burden of 560 hours, and no annual costs.

For 3060-1062: 100 responses, for a total annual burden of 100 hours, and no annual costs.

An agency may not conduct or sponsor a collection of information unless it displays a current, valid OMB Control Number. No person shall be subject to any penalty for failing to comply with a collection of information subject to the Paperwork Reduction Act, which does not display a current, valid OMB Control Number. The foregoing notice is required by the Paperwork Reduction Act of 1995, Public Law 104-13, October 1, 1995, and 44 U.S.C. 3507.

List of Subjects in 47 CFR Part 54

Telecommunications, Universal service.

Federal Communications Commission.
Marlene H. Dortch,
Secretary.

[FR Doc. 2010-29016 Filed 11-16-10; 8:45 am]

BILLING CODE 6712-01-P